DEPARTMENT OF TRANSPORTATION

Federal Aviation Administration

14 CFR Part 21

Existence of Proposed Airworthiness Design Standards for Acceptance Under the Primary Category Rule; Cubcrafters, Inc., Model PC18-160

AGENCY: Federal Aviation Administration (FAA), DOT.

ACTION: Request for comments.

SUMMARY: This notice announces the existence of and requests comments on proposed airworthiness design standards for acceptance of the Cubcrafters, Inc., Model PC18-160 airplane under the regulations for designation of applicable regulations for primary category aircraft.

DATES: Comments must be received on or before February 21, 2008.

ADDRESSES: Send all comments to the Federal Aviation Administration (FAA), Standards Office, Small Airplane Directorate (ACE-110), Aircraft Certification Service, 901 Locust Street, Room 301, Kansas City, MO 64106.

FOR FURTHER INFORMATION CONTACT: Mr. Leslie B. Taylor, Aerospace Engineer, Standards Office (ACE-111), Small Airplane Directorate, Aircraft Certification Service, FAA; telephone number (816) 329-4134, fax number (816) 329-4090, e-mail at leslie.b.taylor@faa.gov.

SUPPLEMENTARY INFORMATION: Any person may obtain a copy of this information by contacting the person named above under FOR FURTHER INFORMATION CONTACT.

Comments Invited

We invite interested parties to submit comments on the proposed airworthiness standards to the address specified above. Commenters must identify the Model PC18-160 and submit comments to the address specified above. The FAA will consider all communications received on or before the closing date before issuing the final acceptance. The proposed airworthiness design standards and comments received may be inspected at the FAA, Small Airplane Directorate, Aircraft Certification Service, Standards Office (ACE-110), 901 Locust Street, Room 301, Kansas City, MO 64106, between the hours of 7:30 a.m. and 4 p.m. weekdays, except Federal holidays.

Background

The “primary” category for aircraft was created specifically for the simple, low performance personal aircraft. Section 21.17(f) provides a means for applicants to propose airworthiness standards for their particular primary category aircraft. The FAA procedure establishing appropriate airworthiness standards includes reviewing and possibly revising the applicant's proposal, publication of the submittal in the Federal Register for public review and comment, and addressing the comments. After all necessary revisions, the standards are published as approved FAA airworthiness standards.

Accordingly, the applicant, Cubcrafters, Inc., has submitted a request to the FAA to include the following:

Airframe and Systems

ASTM F2245-07, “Standard Specification for Design and Performance of a Light Sport Airplane,” modified as follows:

1. Federal Aviation Regulations 23 Loads Report and Test Proposal to be reviewed and approved by ACO. Specifically, Section 5 of ASTM F2245-07 is replaced by Federal Aviation Regulations part 23, §§ 23.301 through 23.561 (latest amendments through Amendment 23-55) as applicable to this airplane.

2. All major structural components will be tested as per the approved Test Proposal (this eliminates “analysis” allowed by ASTM).

3. Paragraph 4.2.1 of ASTM F2245-07 is replaced by Federal Aviation Regulations part 23, § 23.25(b) except that the empty weight referred to in Federal Aviation Regulations part 23, § 23.25(b)(1) is replaced by the maximum empty weight defined in Paragraph 3.1.2 of ASTM F2245-07.

Engine

The engine may not have its own type certificate; in such case it will be included in the airplane type certificate using the following as a proposed certification basis:

1. ASTM F2339-06, “Standard Practice for Design and Manufacture of Reciprocating Spark Ignition Engines for Light Sport Aircraft,” modified as follows: Engine parts and assemblies will be manufactured under the purview of a production certificate held by the applicant. Section 7 of ASTM F2339-06 does not apply.

2. Optionally, the applicant may elect to use a type certificated engine up to 180 horsepower.

Propeller

A type certificated propeller will be used.

Proposed Airworthiness Standards for Acceptance Under the Primary Category Rule

The FAA is requiring use of the part 23 rules in addition to the Light Sport Airplane Consensus Standards. The applicant has agreed to this position; therefore, the certification basis for the Cubcrafters, Inc., Model PC18-160 will be the Primary Category Rule (part 21, § 21.24) with Amendment 23-57 for 14 CFR, part 23, §§ 23.853(a); 23.863; 23.1303(a), (b), and (c); 23.1311(a)(1) through (a)(4), and (b); 23.1321; 23.1322; 23.1329 and 23.1359 and:

Airframe and Systems

ASTM F2245-07, “Standard Specification for Design and Performance of a Light Sport Airplane,” modified as follows:

1. Federal Aviation Regulations 23 Loads Report and Test Proposal to be reviewed and approved by ACO. Specifically, Section 5 of ASTM F2245-07 is replaced by Federal Aviation Regulations part 23, §§ 23.301 through 23.561 (latest amendments through Amendment 23-55) as applicable to this airplane.

2. All major structural components will be tested as per the approved Test Proposal (this eliminates “analysis” allowed by ASTM).

3. Paragraph 4.2.1 of ASTM F2245-07 is replaced by Federal Aviation Regulations part 23, § 23.25(b) except that the empty weight referred to in Federal Aviation Regulations part 23, § 23.25(b)(1) is replaced by the maximum empty weight defined in Paragraph 3.1.2 of ASTM F2245-07.

Engine

The engine may not have its own type certificate; in such case it will be included in the airplane type certificate using the following as a proposed certification basis:

1. ASTM F2339-06, “Standard Practice for Design and Manufacture of Reciprocating Spark Ignition Engines for Light Sport Aircraft,” modified as follows: Engine parts and assemblies will be manufactured under the purview of a production certificate held by the applicant. Section 7 of ASTM F2339-06 does not apply.

2. Optionally, the applicant may elect to use a type certificated engine up to 180 horsepower.

Propeller

A type certificated propeller will be used.

In addition to the applicable airworthiness regulations, the PC18-160 must comply with the fuel vent and exhaust emission requirements of 14 CFR part 34 and the noise certification requirements of 14 CFR part 36; and the FAA must issue a finding of regulatory adequacy pursuant to section 611 of Public Law 92-574, the “Noise Control Act of 1972.”

Issued in Kansas City, Missouri on January 11, 2008.
John Colomy,
Acting Manager, Small Airplane Directorate, Aircraft Certification Service.

[FR Doc. E8-852 Filed 1-18-08; 8:45 am]

BILLING CODE 4910-13-P